ENVIRONMENTAL PROTECTION AGENCY

[FRL-6988-8]

Standard Auto Bumper Superfund Site; Notice of Proposed Settlement

AGENCY: Environmental Protection Agency (EPA).

ACTION: Notice of proposed settlement.

SUMMARY: The United States Environmental Protection Agency is proposing to enter into a settlement with the Florida East Coast Railway Company for past response costs pursuant to section 122(h)(1) of the Comprehensive Environmental Response, Compensation, and Liability Act (CERCLA), 42 U.S.C. 9622(h)(1) concerning the Standard Auto Bumper Superfund Site located in Hialeah, Dade County, Florida. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4 (WMD-CPS), 61 Forsyth Street SW, Atlanta, Georgia 30303, (404) 562-8887.

Written comments may be submitted to Ms. Bachelor within 30 calendar days of the date of this publication.

Dated: May 9, 2001.
Franklin E. Hill,
Chief, CERCA Program Services Branch, Waste Management Division.

[FR Doc. 01-13843 Filed 5-31-01; 8:45 am]

BILLING CODE 6560-50-P